NATIONAL SCIENCE FOUNDATION

Advisory Committee for Engineering; Notice of Meeting

In accordance with the Federal Advisory Committee Act (Pub. L. 92-463, as amended), the National Science Foundation (NSF) announces the following meeting:

Name and Committee Code: Advisory Committee for Engineering #1170.

Date and Time: October 23, 2019; 12:30 p.m. to 6:00 p.m., October 24, 2019; 8:30 a.m. to 12:45 p.m.

Place: National Science Foundation, 2415 Eisenhower Avenue, Room E2030, Alexandria, Virginia 22314.

Type of Meeting: Open.

Contact Person: Evette Rollins, National Science Foundation, 2415 Eisenhower Avenue, Suite C14000, Alexandria, Virginia 22314; Telephone: 703.292.8300.

Purpose of Meeting: To provide advice, recommendations and counsel on major goals and policies pertaining to engineering programs and activities.

Agenda

Wednesday, October 23, 2019

• Directorate for Engineering Report

• NSF Budget Update

• Reports from Advisory Committee Liaisons

• Science and Security

• Stopping Harassment

• NSB Visioning

• Engineering Visioning Summit and Beyond

• Preparation for Discussion with the Director's Office

Thursday, October 24, 2019

• Division of Chemical, Bioengineering, Environmental and Transport Systems (CBET) Overview

• CBET Committee of Visitors (COV) Report

• Division of Civil, Mechanical and Manufacturing Innovation (CMMI) Overview

• CMMI Committee of Visitors (COV) Report

• Mid-scale Research Infrastructure

• Perspectives from the Director's Office

• Roundtable on Strategic Recommendations for ENG

Dated: September 26, 2019.
Crystal Robinson,
Committee Management Officer.

[FR Doc. 2019-21349 Filed 10-1-19; 8:45 am]

BILLING CODE 7555-01-P